FEDERAL ELECTION COMMISSION

Sunshine Act Notices

DATE AND TIME: Thursday, December 16, 2004, at 10 a.m.

PLACE: 999 E Street, NW., Washington, DC (Ninth Floor).

STATUS: This meeting will be open to the public.

The following item has been added to the Agenda: Treasurers' Policy.

FOR FURTHER INFORMATION CONTACT: Mr. Robert Biersack, Press Officer, telephone (202) 694-1220.

Mary W. Dove,
Secretary of the Commission.

[FR Doc. 04-27268 Filed 12-8-04; 12:37 pm]

BILLING CODE 6715-01-M